DEPARTMENT OF HOMELAND SECURITY

U.S. Citizenship and Immigration Services

[CIS No. 2695-21; DHS Docket No. USCIS- USCIS-2021-0014]

RIN 1615-ZB89

Extension of Initial Registration Periods for New Temporary Protected Status Applicants Under the Designations for Venezuela, Syria, and Burma; Correction to the Notice on the Designation of Venezuela for Temporary Protected Status and Implementation of Employment Authorization for Venezuelans Covered by Deferred Enforced Departure

AGENCY: U.S. Citizenship and Immigration Services, Department of Homeland Security.

ACTION: Notice of initial registration period extensions.

SUMMARY: Through this notice, the Department of Homeland Security (DHS) announces extensions of the initial registration periods from 180 days to 18 months for initial (new) applicants under the Temporary Protected Status (TPS) designations for Venezuela, Syria, and Burma. This notice also provides certain specific corrections to the Federal Register notice regarding Venezuela at 86 FR 13574 (Mar. 9, 2021).

DATES: DHS is extending the initial registration periods from 180 days to 18 months for applicants who do not currently have TPS under the TPS designations for Venezuela, Syria, and Burma, as specified in this notice.¹ This extension to 18 months is the same time period of the TPS designation itself, allowing an individual to apply as an initial applicant any time during the 18-month designation periods for these three countries. However, applicants should be aware that the ability to file a late initial TPS application may not be available during any potential subsequent extensions of these designations, so individuals desiring TPS should take action to apply during this 18-month initial registration period in order to ensure that they do not miss the opportunity to obtain TPS. These initial registration period extensions apply to the following Federal Register notices:

¹ The 60-day re-registration period (March 19, 2021, through May 18, 2021) for existing TPS beneficiaries under TPS Syria is not changing. See 86 FR 14946 (Mar. 19, 2021).

Designation of Venezuela for Temporary Protected Status and Implementation of Employment Authorization for Venezuelans Covered by Deferred Enforced Departure (86 FR 13574): ² The 18-month registration period to apply for TPS now runs from March 9, 2021, through September 9, 2022. See also corrections to Venezuela notice below.

² A Federal Register notice was published on March 24, 2021, correcting defects in the original notice of Designation of Venezuela for Temporary Protected Status and Implementation of Employment Authorization for Venezuelans Covered by Deferred Enforced Departure. See 86 FR 15694. This notice provides further corrections.

Extension and Redesignation of Syria for Temporary Protected Status (86 FR 14946): The 18-month registration period for initial applications under the redesignation of TPS for Syria now runs from March 19, 2021, through September 30, 2022.

Designation of Burma (Myanmar) for Temporary Protected Status (86 FR 28132): The 18-month registration period now runs from May 25, 2021, through November 25, 2022.

FOR FURTHER INFORMATION CONTACT:

• Andria Strano, Acting Chief, Humanitarian Affairs Division, Office of Policy and Strategy, U.S. Citizenship and Immigration Services, Department of Homeland Security, by mail at 5900 Capital Gateway Drive, Camp Springs, MD 20746, or by phone at 800-375-5283.

• For further information on TPS, please visit the USCIS TPS web page at www.uscis.gov/tps.

• If you have additional questions about TPS, please visit uscis.gov/tools. Our online virtual assistant, Emma, can answer many of your questions and point you to additional information on our website. If you are unable to find your answers there, you may also call our U.S. Citizenship and Immigration Services (USCIS) Contact Center at 800-375-5283 (TTY 800-767-1833).

• Applicants seeking information about the status of their individual cases may check Case Status Online, available on the USCIS website at www.uscis.gov, or call the USCIS Contact Center at 800-375-5283 (TTY 800-767-1833).

• Further information will also be available at local USCIS offices upon publication of this notice.

SUPPLEMENTARY INFORMATION:

Table of Abbreviations

DHS—U.S. Department of Homeland Security

EAD—Employment Authorization Document

Form I-765—Application for Employment Authorization

Form I-821—Application for Temporary Protected Status

Government—U.S. Government

INA—Immigration and Nationality Act

Secretary—Secretary of Homeland Security

TPS—Temporary Protected Status

TTY—Text Telephone

USCIS—U.S. Citizenship and Immigration Services

Background on Temporary Protected Status (TPS)

• TPS is a temporary immigration status granted to eligible nationals of a country designated for TPS under the Immigration and Nationality Act (INA) or to eligible persons without nationality who last habitually resided in the designated country.

• During the TPS designation period, TPS beneficiaries are eligible to remain in the United States, may not be removed, are employment authorized, and may obtain Employment Authorization Documents (EADs), so long as they continue to meet the requirements of TPS.

• TPS beneficiaries may also apply for travel authorization as a matter of discretion.

• To qualify for TPS, beneficiaries must meet the eligibility standards at INA section 244(c)(1)-(2), 8 U.S.C. 1254a(c)(1)-(2).

• When the Secretary of Homeland Security (Secretary) terminates a country's TPS designation, beneficiaries return to one of the following:

○ The same immigration status or category that they maintained before TPS, if any (unless that status or category has since expired or been terminated); or

○ Any other lawfully obtained immigration status or category they received while registered for TPS, as long as it is still valid on the date TPS terminates.

Purpose of This Action

Through this Federal Register notice, DHS is extending the initial registration periods from 180 days to 18 months for initial applicants (that is, individuals who do not currently have TPS) under the TPS designations for Venezuela, Syria, and Burma, as specified in this notice. The initial registration periods will now run for the entire 18-month period of the TPS designations for Venezuela and Burma, and for the entire 18-month period of TPS redesignation for Syria. This will allow individuals to submit an initial application for TPS and an application for employment authorization documentation (if desired), during the relevant country's TPS designation or redesignation.

DHS is extending the registration period for a number of reasons. In general, individuals must be given an initial registration period of no less than 180 days to register for TPS, but the Secretary has discretion to provide for a longer registration period. See 8 U.S.C. 1254a(c)(1)(A)(iv). Historically, the length of the initial registration period has varied. Compare 66 FR 14214 (March 9, 2001) (18 months initial registration period for applicants under TPS designation for El Salvador) with 80 FR 36346 (June 24, 2015) (180-day initial registration period for applicants under TPS designation for Nepal). In recent years, this period has most typically been limited to the statutory minimum of 180 days, although later extensions of the initial registration period have also been announced for some countries. See, e.g., 81 FR 4051 (Jan. 25, 2016) (setting 180-day initial registration period during extension and redesignation of South Sudan for TPS); 78 FR 1866 (Jan. 9, 2013) (setting 180-day initial registration period during extension and redesignation of Sudan for TPS); 75 FR 39957 (July 13, 2010) (extending previously announced initial 180-day registration period for Haiti TPS applicants to allow more time for individuals to apply). After reevaluating the initial 180-day registration periods announced for TPS under the new designations for Venezuela and Burma and the redesignation of Syria, DHS has determined that it will provide the full 18 months of these designations for applicants to file their initial Form I-821 and Form I-765 to obtain an EAD, if desired. Limiting the initial registration period to 180 days may place a burden on applicants who are unable to timely file but would otherwise be eligible for a grant of TPS. In addition, permitting registration throughout the entirety of the designation period could reduce the operational burden on USCIS, as incoming applications may be spread out over a longer period of time. This extended registration period is in keeping with the humanitarian purpose of TPS and will better advance the goal of ensuring “the Federal Government eliminates . . . barriers that prevent immigrants from accessing government services available to them.” See Executive Order 14012, Restoring Faith in Our Legal Immigration Systems and Strengthening Integration and Inclusion Efforts for New Americans, 86 FR 8277 (Feb. 5, 2021).

In addition, through this Federal Register notice, DHS is making corrections to the Federal Register notice regarding Venezuela's TPS designation that was published on March 9, 2021, at 86 FR 13574. USCIS is correcting the second paragraph of the section titled “Required Application Forms and Application Fees To Register for TPS” to correct the end date of the EAD validity period noted in that section from “September 7, 2021” to “September 9, 2022.” USCIS is also correcting the section titled “Refiling a TPS Registration Application After Receiving a Denial of a Fee Waiver Request” in order to remove erroneous references to a “good cause” exception to late filings for initial TPS applicants under the Venezuela designation.³

³ See 8 CFR 244.2(f) and (g) (noting requirements for consideration of late initial TPS registration applications). A “good cause” exception to late filings is applicable only to persons re-registering for TPS as per INA § 244(c)(3)(C), not to initial registrants.

Corrections

In FR Doc. 2021-04951, beginning on page 13574, in the Federal Register of March 9, 2021, make the following corrections:

1. On page 13578, the sentence indicating “Although not required to do so, if you want to obtain an EAD valid through September 7, 2021, you must file an Application for Employment Authorization (Form I-765) and pay the Form I-765 fee (or submit a Request for a Fee Waiver (Form I-912))” is corrected to read as follows: “Although not required to do so, if you want to obtain an EAD valid through September 9, 2022, you must file an Application for Employment Authorization (Form I-765) and pay the Form I-765 fee or request a fee waiver”.

2. On page 13578, the heading “Refiling a TPS Registration Application After Receiving a Denial of a Fee Waiver Request” is corrected to read as follows: “Refiling a TPS Registration Application after Receiving Notice that USCIS Did Not Grant the Fee Waiver Request”.

3. On page 13578, the first paragraph under the heading that currently reads “Refiling a TPS Registration Application After Receiving a Denial of a Fee Waiver Request” is struck and replaced with the following correction:

“You should file as soon as possible so USCIS can process your application and issue an EAD promptly, if you requested one. If USCIS does not grant your fee waiver request related to your initial TPS application, you must refile your Form I-821 for TPS, along with the required fees, by September 9, 2022 to continue seeking initial TPS. If USCIS does not grant your fee waiver request, you may also refile your Form I-765, with fee, either with your Form I-821 or at a later time as long as it is within the period that Venezuela is designated for TPS. For more information on late initial registration, visit the USCIS TPS web page at uscis.gov/tps.”

Alejandro N. Mayorkas,
Secretary, U.S. Department of Homeland Security.

[FR Doc. 2021-16611 Filed 8-3-21; 8:45 am]

BILLING CODE 9111-97-P